ENVIRONMENTAL PROTECTION AGENCY

[OPP-100156; FRL-6499-8]

Systems Integration Group, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Systems Integration Group, Inc. in accordance with 40 CFR 2.307(h)(3) and 2.308(i)(2). Systems Integration Group, Inc. has been awarded a contract to perform work for OPP, and access to this information will enable Systems Integration Group, Inc. to fulfill the obligations of the contract.

DATES: Systems Integration Group, Inc. will be given access to this information on or before April 10, 2000.

FOR FURTHER INFORMATION CONTACT: By mail: Erik R. Johnson, FIFRA Security Officer, Information Resources and Services Division (7502C), Office of Pesticide Programs, Environmental Protection Agency, Ariel Rios Bldg., 1200 Pennsylvania Ave., NW., Washington, DC 20460; telephone number: 703-305-7248; e-mail address: johnson.erik@epa.gov.

SUPPLEMENTARY INFORMATION:

I. Does this Action Apply to Me?

This action applies to the public in general. As such, the Agency has not attempted to describe all the specific entities that may be affected by this action. If you have any questions regarding the applicability of this action to a particular entity, consult the person listed under “FOR FURTHER INFORMATION CONTACT.”

II. Contractor Requirements

EPA's Office of Pesticide Programs (OPP) is responsible for regulating the supply and use of chemical and biological agents produced, marketed, or used for pest control in the United States. Under the authority of the Federal Insecticide, Fungicide, and Rodenticide Act (FIFRA) and portions of the Federal Food, Drug, and Cosmetic Act (FFDCA), OPP registers and classifies pesticide residues in food and feed commodities, and as appropriate, suspends or cancels registrations and other regulatory clearances of pesticides found likely to cause unreasonable adverse effects on man or the environment. In carrying out these responsibilities, OPP makes thousands of discrete regulatory decisions each year. Some decisions are of narrow scope and impact and relatively simple; others are of a very board scope and impact and are extremely complex. Most of these decisions are based on review of applications submitted by regulated firms, and of supporting technical data describing the properties, effects, and other characteristics of the pesticides.

Under Contract No.68-W-00-096, the contractor will provide in-processing and indexing support for studies and other technical documents of archival significance and in-processing and data capture support for regulatory applications, decisions, and incident reports. The contract also provides on site full-time operational data entry support and staffing for the OPP computer terminal room and management of the Information Services Center located in Crystal Mall #2, 1921 Jefferson Davis Highway, Arlington, VA.

This contract involves no subcontractors.

OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Systems Integrations Group, Inc., prohibits use of the information for any purpose not specified in the contract; prohibits disclosure of the information to a third party without prior written approval from the Agency; and requires that each official and employee of the contractor sign an agreement to protect the information from unauthorized release and to handle it in accordance with the FIFRA Information Security Manual. In addition, Systems Integration Group, Inc. is required to submit for EPA approval a security plan under which any CBI will be secured and protected against unauthorized release or compromise. No information will be provided to Systems Integration Group, Inc. until the requirements in this document have been fully satisfied. Records of information provided to Systems Integration Group, Inc. will be maintained by EPA Project Officers for this contract. All information supplied to Systems Integration Group, Inc. by EPA for use in connection with this contract will be returned to EPA when Systems gration Group, Inc. has completed its work.

List of Subjects

Environmental protection, Business and industry, Government contracts, Government property, Security measures.

Dated: March 21, 2000.
Richard D. Schmitt,
Acting Director, Information Resources and Services Division, Office of Pesticide Programs.

[FR Doc. 00-8002 Filed 4-4-00; 8:45 am]

BILLING CODE 6560-50-F